DEPARTMENT OF THE INTERIOR

Office of Surface Mining Reclamation and Enforcement

30 CFR Parts 816 and 817

[Docket Number: OSM-2014-0003; S1D1SSS08011000SX066A00067F144S180110; S2D2SSS08011000SX066A00033F14XS501520]

Petition To Initiate Rulemaking; Use of Explosives on Surface Coal Mining Operations

AGENCY: Office of Surface Mining Reclamation and Enforcement, Interior.

ACTION: Notice of availability of petition to initiate rulemaking; extension of comment period.

SUMMARY: We, the Office of Surface Mining Reclamation and Enforcement (OSMRE), announce a 30-day extension of the comment period on a petition, submitted pursuant to the Surface Mining Control and Reclamation Act, (SMCRA or the Act), requesting that we amend our regulations governing the use of explosives to prohibit visible nitrogen oxide clouds. We are requesting comments on the merits of the petition and the rule changes suggested in the petition. Comments received will assist the Director of OSMRE in making the decision whether to grant or deny the petition.

DATES: The comment period for the petition for rulemaking published on July 25, 2014 (79 FR 43326), is extended. We will review and consider all comments submitted to the addresses listed below (see ADDRESSES) on or before September 25, 2014.

ADDRESSES: Please submit comments by one of the methods listed below. We cannot guarantee that comments submitted by other means or to other addresses will be included in the docket for this petition.

• Federal eRulemaking Portal: www.regulations.gov. The petition has been assigned Docket ID: OSM-2014-0003. Please follow the online instructions for submitting comments.

• Mail/Hand-Delivery/Courier: Office of Surface Mining Reclamation and Enforcement, Administrative Record, Room 252 SIB, 1951 Constitution Avenue NW., Washington, DC 20240. Please include the Docket ID: OSM-2014-0003.

FOR FURTHER INFORMATION CONTACT: Joshua Rockwell, Division of Regulatory Support, 1951 Constitution Ave. NW., Washington, DC 20240; Telephone: 202-208-2633; Email: jrockwell@osmre.gov.

SUPPLEMENTARY INFORMATION: On July 25, 2014 (79 FR 43326), we published a petition for rulemaking, pursuant to the Surface Mining Control and Reclamation Act, 30 U.S.C. 1201 et seq. (SMCRA or the Act), requesting that we amend our regulations governing the use of explosives to prohibit visible nitrogen oxide clouds.

The original comment period was scheduled to close August 25, 2014. However, we received several requests to extend the comment period. After reviewing the requests, we are extending the deadline for submission of comments by 30 days. The comment period will now close September 25, 2014.

You may view and download the complete text of the petition and accompanying exhibits on our home page at http://www.osmre.gov/programs/rcm/petitions/WEGPetition041414.pdf and http://www.osmre.gov/programs/rcm/petitions/WEGPetitionExhibits.pdf respectively. The petition and exhibits also are available for inspection at the location listed under ADDRESSES.

Please include the Docket ID “OSM-2014-0003” at the beginning of all written comments. We cannot ensure that comments received after the close of the comment period (see DATES) or at locations other than those listed above (see ADDRESSES) will be included in the docket or considered in the development of a proposed rule.

Before including your address, phone number, or other personal identifying information in your comment, you should be aware that your entire comment—including your personal identifying information—may be made publicly available at any time. While you can ask us in your comment to withhold your personal identifying information from public review, we cannot guarantee that we will be able to do so.

Dated: August 12, 2014.
Joseph G. Pizarchik,
Director, Office of Surface Mining Reclamation and Enforcement.

[FR Doc. 2014-20171 Filed 8-22-14; 8:45 am]

BILLING CODE 4310-05-P